DEPARTMENT OF THE INTERIOR

National Park Service

Draft Environmental Impact Statement for General Management Plan; Middle and South Forks Kings River Wild and Scenic River Comprehensive Management Plan; North Fork Kern River Wild and Scenic River Comprehensive Management Plan; Sequoia and Kings Canyon National Parks Tulare and Fresno Counties, CA; Notice of Extension of Public Comment Period

SUMMARY: Pursuant to 102(2)(C) of the National Environmental Policy Act of 1969 (Pub. L. 91-190 as amended), the National Park Service, Department of the Interior, has prepared a Draft Environmental Impact Statement assessing potential impacts of alternative approaches for future management of Sequoia and Kings Canyon National Parks, in central California. The original public comment period has been extended an additional two months from the original August 5, 2004 deadline.

SUPPLEMENTARY INFORMATION: Interested individuals, organizations, and agencies are encouraged to provide written comments—to be considered any response must now be postmarked (or electronically transmitted) no later than October 6, 2004.

All responses should be addressed to the Superintendent, Sequoia and Kings Canyon National Parks, 47050 Generals Highway, Three Rivers, CA 93271 (or submitted by e-mail to Susan_Spain@nps.gov). If individuals submitting comments request that their name or/and address be withheld from public disclosure, it will be honored to the extent allowable by law. Such requests must be stated prominently in the beginning of the comments. There also may be circumstances wherein the NPS will withhold a respondent's identity as allowable by law. As always: NPS will make available to public inspection all submissions from organizations or businesses and from persons identifying themselves as representatives or officials of organizations and businesses; and, anonymous comments may not be considered.

To obtain a copy of the DEIS please contact the park at (559) 565-3101. Ten public meetings will be held throughout the state from July 14 to July 22; full details are available by phone or via the internet at http://www.nps.gov/seki/pphtml/documents.html, click on Management Documents.

Dated: July 14, 2004.
Martha K. Leicester,
Deputy Regional Director, Pacific West Region.

[FR Doc. 04-19391 Filed 8-24-04; 8:45 am]

BILLING CODE 4312-F6-P